DEPARTMENT OF TRANSPORTATION

Maritime Administration

Maritime Security Act of 2003, Subtitle D—National Defense Tank Vessel Construction Assistance

AGENCY: Maritime Administration, DOT.

ACTION: Notice of request for competitive proposals for construction of new product tank vessels.

SUMMARY: This notice solicits competitive proposals for the construction in the United States of new product tank vessels necessary to meet the commercial and national security needs of the United States and to be built with assistance under subtitle D of the Maritime Security Act of 2003.

FOR FURTHER INFORMATION CONTACT: Gregory V. Sparkman, Office of Insurance and Shipping Analysis, Maritime Administration, Room 8117, 400 Seventh Street, SW., Washington, DC 20590; Telephone (202) 366-2400; Fax: (202) 366-7901.

ADDRESSES: Applications must be mailed, delivered in person or faxed (in which case an original must be subsequently received) to the Secretary, Maritime Administration, Room 7218, 400 Seventh Street, SW., Washington, DC 20590; Fax (202) 366-9206.

SUPPLEMENTARY INFORMATION: Under subtitle D of the Maritime Security Act of 2003, Public Law 108-199, National Defense Tank Vessel Construction Assistance, the Secretary of Transportation, acting through the Maritime Administrator, has established a program to provide financial assistance for the construction in the United States of a fleet of up to 5 privately owned product tank vessels: (1) to be operated in commercial service in foreign commerce; and (2) to be available for national defense purposes in time of war or national emergency pursuant to an Emergency Preparedness Plan approved by the Secretary of Defense pursuant to section 3543(e) of subtitle D.

This notice solicits requests for competitive proposals for the construction of new product tank vessels necessary to meet the commercial and national security needs of the United States and to be built with assistance under subtitle D of the Maritime Security Act of 2003.

Any citizen of the United States or any shipyard in the United States may submit a proposal to the Maritime Administrator. The Secretary, acting through the Maritime Administrator, with the concurrence of the Secretary of Defense, may enter into an agreement with the submitter of a proposal for construction of a new product tank vessel of not less than 35,000 deadweight tons and not greater than 60,000 deadweight tons, that—

(A) Will meet the requirements of foreign commerce;

(B) Is capable of carrying militarily useful petroleum products, and will be suitable for national defense or military purposes in time of war, national emergency, or other military contingency; and

(C) Will meet the construction standards necessary to be documented under the laws of the United States.

The shipyard in which the vessel will be constructed must be determined to have the necessary capacity and expertise to successfully construct the proposed number and type of product tank vessels in a reasonable period of time as determined by the Secretary of Transportation, acting through the Maritime Administrator, taking into consideration the recent prior commercial shipbuilding history of the proposed shipyard in delivering a vessel or series of vessels on time and in accordance with the contract price and specifications. Additionally, the person proposed to be the operator of the proposed vessel must be determined to possess the ability, experience, financial resources, and any other qualifications determined to be necessary by the Secretary, acting through the Maritime Administrator, for the operation and maintenance of the vessel.

Subject to the above considerations, the Secretary, acting through the Maritime Administrator, shall give priority consideration to a proposal submitted by a person that is a citizen of the United States under section 2 of the Shipping Act, 1916 (46 App. U.S.C. 802); and may give priority consideration to proposals that provide the best value to the Government, taking into consideration: (1) The costs of vessel construction; and (2) the commercial and national security needs of the United States.

If it is determined that the proposal fulfills the requirements of subtitle D, the Secretary, acting through the Maritime Administrator, may enter into a contract with the proposed purchaser and the proposed shipyard for the construction of a product tank vessel with assistance under subtitle D. The contract shall provide for a payment, subject to the availability of appropriations, of up to 75 percent of the actual construction cost of the vessel, but in no case more than $50,000,000 per vessel. The contract shall require that construction of a vessel with assistance under subtitle D shall be performed in a shipyard in the United States. The contract shall further require that, upon delivery of a vessel constructed with assistance under the contract, the vessel shall be documented under chapter 121 of title 46, United States Code with a registry endorsement only. A vessel constructed with assistance under subtitle D shall not be eligible for a certificate of documentation with a coastwise endorsement. Section 9(g) of the Shipping Act, 1916, (46 App. U.S.C. 808(g)) shall not apply to a vessel constructed with assistance under Subtitle D. Additionally, a contract under Subtitle D shall require that the person who will be the operator of a vessel constructed with assistance under the contract shall enter into an Emergency Preparedness Agreement for the vessel under section 53107 of title 46, United States Code, as amended by the Maritime Security Act of 2003.

For purposes of the application, under paragraph (1), of section 53107 of title 46, United States Code, to construct a vessel with assistance under subtitle D, the term “contractor” as used in that section means the person who will be the operator of a vessel constructed with assistance under subtitle D.

The Secretary, acting through the Maritime Administrator, shall incorporate in the contract the requirements set forth in subtitle D, and may incorporate in the contract any additional terms considered necessary.

The Secretary, acting through the Maritime Administrator, shall give priority to guarantees and commitments under section 1103 of the Merchant Marine Act, 1936 for vessels that are otherwise eligible for a guarantee under that section and that are constructed with assistance under subtitle D.

Request for Proposals

The Maritime Administration has developed a detailed Request for Proposals (RFP) for those interested in participating in the National Defense Tank Vessel Construction Assistance Program. The RFP sets forth all requirements of the Program and any interested party should refer directly to that document. The RFP will be available on the Internet at http://www.fedbizopps.gov and http://www.marad.dot.gov on or about February 20, 2004. Hard copies of the RFP will be available in the office of the Secretary, Maritime Administration (see ADDRESSES section for contact information).

Authority: 49 CFR 1.66.

By Order of the Maritime Administrator.
Dated: February 13, 2004.
Joel C. Richard,
Secretary.

[FR Doc. 04-3668 Filed 2-19-04; 8:45 am]

BILLING CODE 4910-81-P